DEPARTMENT OF TRANSPORTATION

Federal Aviation Administration

Notice of Intent to Request Approval From the Office of Management and Budget of a New Information Collection Activity, Request for Comments; New England Region Aviation Expo

AGENCY: Federal Aviation Administration, (FAA), DOT.

ACTION: Notice and request for comments.

SUMMARY: The FAA invites public comments about our intention to request the Office of Management and Budget (OMB) to approve a new information collection. The New England Region Aviation Expo database performs conference registration and helps plan the logistics and non-pilot courses for the expo.

DATES: Please submit comments by January 29, 2007.

FOR FURTHER INFORMATION CONTACT: Carla Mauney on (202) 267-9895, or by e-mail at: Carla.Mauney@faa.gov.

SUPPLEMENTARY INFORMATION

Federal Aviation Administration (FAA)

Title: New England Region Aviation Expo Database.

Type of Request: New Collection.

OMB Control Number: 2120-XXXX.

Form(s): There are no FAA forms associated with this collection.

Affected Public: A total of 500 Respondents.

Frequency: The information is collected once annually.

Estimated Average Burden Per Response: Approximately 15 seconds per response.

Estimated Annual Burden Hours: An estimated 2 hours annually.

Abstract: The New England Region Aviation Expo database performs conference registration and helps plan the logistics and non-pilot courses for the expo.

ADDRESSES: Send comments to the FAA at the following address: Ms. Carla Mauney, Room 1033, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on November 20, 2006.
Carla Mauney,
FAA Information Collection Clearance Officer, Strategy and Investment Analysis Division, AIO-20.

[FR Doc. 06-9438 Filed 11-27-06; 8:45 am]

BILLING CODE 4910-13-M